DEPARTMENT OF ENERGY

Federal Energy Regulatory Commission

[Docket No. EG00-157-000, et al.]

Kiowa Power Partners, L.L.C., et al.; Electric Rate and Corporate Regulation Filings

July 26, 2000.

Take notice that the following filings have been made with the Commission.

1. Kiowa Power Partners, L.L.C.

[Docket No. EG00-157-000]

Take notice that on July 13, 2000, Kiowa Power Partners, L.L.C. (the Applicant) whose address is 359 Lake Park Road, Suite 128, Lewisville, Texas 75057, filed with the Federal Energy Regulatory Commission, an amendment to its application for determination of exempt wholesale generator status submitted in the above-referenced proceeding.

Comment date: August 16, 2000, in accordance with Standard Paragraph E at the end of this notice.

2. Duquesne Light Company

[Docket No. ER00-2571-001]

Take notice that on July 20, 2000, Duquesne Light Company (Duquesne) tendered for filing an Attachment A to an amended long-term service agreement between Duquesne and Orion Power Midwest, L.P. filed at the Commission on July 14, 2000. Duquesne reports that Attachment A was inadvertently omitted from the July 14th filing.

Comment date: August 10, 2000, in accordance with Standard Paragraph E at the end of this notice.

3. Duke Energy Vermillion, LLC

[Docket No. ER00-2873-001]

Take notice that on July 21, 2000, Duke Energy Vermillion, LLC (Duke Vermillion) submitted for filing a response to the Staff's deficiency letter issued in this docket on June 22, 2000.

Duke Vermillion reiterates its request for an effective date of May 15, 2000, for its Service Agreement No. 1 under FERC Electric Tariff, Original Volume No. 1 with Duke Energy Trenton, LLC and Cincap VIII.

Comment date: August 11, 2000, in accordance with Standard Paragraph E at the end of this notice.

4. Duke Energy Madison, LLC

[Docket No. ER00-2874-001]

Take notice that on July 21, 2000, Duke Energy Madison, LLC (Duke Madison) submitted for filing a response to the Staff's deficiency letter issued in this docket on June 22, 2000.

Duke Madison reiterates its request for an effective date of May 29, 2000, for its Service Agreement No. 1 under FERC Electric Tariff, Original Volume No. 1 with Duke Energy Trenton, LLC and Cincap VIII.

Comment date: August 11, 2000, in accordance with Standard Paragraph E at the end of this notice.

5. Green Valley Hydro, LLC

[Docket No. ER00-2924-001]

Take notice that on July 21, 2000, Green Valley Hydro, LLC (Green Valley) filed an amendment to its application for a market rate tariff of general applicability under which it proposes to sell capacity and energy at market-based rates all as more fully described in the application.

Green Valley requests an effective date no later than July 24, 2000.

Copies of the filing have been provided to the Public Utilities Commission of Ohio, the Pennsylvania Public Utility Commission, the Maryland Public Service Commission, the Virginia State Corporation Commission, the West Virginia Public Service Commission, and all parties of record.

Comment date: August 11, 2000, in accordance with Standard Paragraph E at the end of this notice.

6. Rayburn Country Electric Cooperative, Inc.

[Docket No. ES00-49-000]

Take notice that on July 19, 2000, Rayburn Country Electric Cooperative, Inc. (Rayburn) submitted an application pursuant to section 204 of the Federal Power Act seeking authorization to borrow not more than $25 million under a Letter of Credit.

Rayburn also requests a waiver from the Commission's competitive bidding and negotiated placement requirements in 18 CFR 34.2.

Comment date: August 16, 2000, in accordance with Standard Paragraph E at the end of this notice.

7. Virginia Electric and Power Company

[Docket No. ER00-3004-001]

Take notice that on July 20, 2000, Virginia Electric and Power Company (Virginia Power or the Company), tendered an amended filing containing the executed versions of the following agreements with Sempra Energy Trading Corporation (Transmission Customer).

1. Second Amended Service Agreement for Firm Point-to-Point Transmission Service designated Second Revised Service Agreement No. 253 under the Company's FERC Electric Tariff, First Revised Volume No. 5;

2. Second Amended Service Agreement for Non-Firm Point-to-Point Transmission Service designated Second Revised Service Agreement No. 49 under the Company's FERC Electric Tariff, Original Volume No. 5.

The amended filing was made to replace and supercede unexecuted versions of the agreements with the executed versions. The Company requests an effective date of June 1, 2000, the date service was first provided to the customer under the amended agreements.

Copies of the filing were served upon Sempra Energy Trading Corporation, the Virginia State Corporation Commission, and the North Carolina Utilities Commission.

Comment date: August 11, 2000, in accordance with Standard Paragraph E at the end of this notice.

8. Alliant Energy Corporate Services, Inc.

[Docket No. ER00-3234-000]

Take notice that on July 21, 2000, Alliant Energy Corporate Services, Inc., tendered for filing an executed Service Agreement for Short-Term Firm Point-to-Point transmission service, establishing Central Minnesota Municipal Power Agency as a Short-Term Point-to-Point Transmission Customer under the terms of the Alliant Energy Corporate Services, Inc., transmission tariff.

Alliant Energy Corporate Services, Inc., requests an effective date of April 17, 2000 and accordingly seeks waiver of the Commission's notice requirements.

A copy of this filing has been served upon the Illinois Commerce Commission, the Minnesota Public Utilities Commission, the Iowa Department of Commerce, and the Public Service Commission of Wisconsin.

Comment date: August 11, 2000, in accordance with Standard Paragraph E at the end of this notice.

9. Cinergy Services, Inc.

[Docket No. ER00-3235-000]

Take notice that on July 21, 2000, Cinergy Services, Inc. (Cinergy), tendered for filing a Network Service Agreement, Network Operating Agreement, and Specifications for Network Integration Transmission Service under Cinergy's Open Access Transmission Service Tariff (OATT) entered into between Cinergy and the City of Lebanon.

An Application for Network Integration Service for the City of Lebanon, Ohio has been included as an Exhibit to the Service Agreement under the OATT.

Copies of the filing were served upon the City of Lebanon, Ohio.

Cinergy and the City of Lebanon are requesting an effective date of July 1, 2000.

Comment date: August 11, 2000, in accordance with Standard Paragraph E at the end of this notice.

10. Jersey Central Power & Light Company, Metropolitan Edison Company, Pennsylvania Electric Company

[Docket No. ER00-3236-000]

Take notice that on July 21, 2000, Jersey Central Power & Light Company, Metropolitan Edison Company and Pennsylvania Electric Company (individually doing business as GPU Energy), tendered for filing a Notice of Cancellation of the Service Agreement between GPU Energy and EnerZ Corporation, FERC Electric Tariff, Original Volume No. 1, Service Agreement No. 78.

GPU Energy requests that cancellation be effective September 18, 2000.

Comment date: August 11, 2000, in accordance with Standard Paragraph E at the end of this notice.

11. Entergy Services, Inc.

[Docket No. ER00-3237-000]

Take notice that on July 21, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and FPL Energy Power Marketing, Inc.

Comment date: August 11, 2000, in accordance with Standard Paragraph E at the end of this notice.

12. Duquesne Light Company

[Docket No. ER00-3238-000]

Take notice that on July 21, 2000, Duquesne Light Company (DLC), tendered for filing a Service Agreement dated July 20, 2000 with Cinergy Operating Companies under DLC's Open Access Transmission Tariff (Tariff). The Service Agreement adds Cinergy Operating Companies as a customer under the Tariff.

DLC requests an effective date of July 20, 2000, for the Service Agreement.

Comment date: August 11, 2000, in accordance with Standard Paragraph E at the end of this notice.

13. FirstEnergy Operating Companies

[Docket No. ER00-3239-000]

Take notice that on July 21, 2000, Cleveland Electric Illuminating Company, Ohio Edison Company, Pennsylvania Power Company and Toledo Edison Company (collectively, the FirstEnergy Operating Companies), tendered for filing a Generating Interconnection and Operating Agreement with Mid-Atlantic Energy Development Company (Mid-Atlantic) (the Interconnection Agreement).

The FirstEnergy Operating Companies state that Mid-Atlantic is installing three generating units with a total capacity of 390 MW at the site of the Richland peaking plant of Toledo Edison in Defiance, Ohio. The FirstEnergy Operating Companies further state that the Interconnection Agreement establishes the terms and conditions under which the generating units being installed by Mid-Atlantic will be permitted to interconnect and operate in parallel with the existing FirstEnergy Operating Companies' electric system.

The FirstEnergy Operating Companies are proposing to make the Interconnection Agreement effective as of July 22, 2000.

Comment date: August 11, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-19454 Filed 8-1-00; 8:45 am]

BILLING CODE 6717-01-U